OFFICE OF PERSONNEL MANAGEMENT

Excepted Service

AGENCY: Office of Personnel Management.

ACTION: Notice.

SUMMARY: This gives notice of positions placed or revoked under Schedules A and B, and placed under Schedule C in the excepted service, as required by Civil Service Rule VI, Exceptions from the Competitive Service.

FOR FURTHER INFORMATION CONTACT: Suzy Barker, Director, Staffing Reinvention Office, Employment Service (202) 606-0830.

SUPPLEMENTARY INFORMATION: The Office of Personnel Management published its last monthly notice updating appointing authorities established or revoked under the Excepted Service provisions of 5 CFR 213 on June 22, 2000 (65 FR 38867). Individual authorities established or revoked under Schedules A and B and established under Schedule C between May 1, 2000, and May 31, 2000, appear in the listing below. Future notices will be published on the fourth Tuesday of each month, or as soon as possible thereafter. A consolidated listing of all authorities as of June 30 will also be published.

Schedule A

No Schedule A authorities were established or revoked during May 2000.

Schedule B

No Schedule B authorities were established or revoked during May 2000.

Schedule C

The following Schedule C authorities were established during May 2000:

Department of Agriculture

Confidential Assistant to the Administrator, Farm Service Agency. Effective May 23, 2000.

Department of Commerce

Senior Advisor for Communications to the Under Secretary for Export Administration, Bureau of Export Administration. Effective May 26, 2000.

Special Assistant to the General Counsel. Effective May 26, 2000. Special Assistant to the Under Secretary for Intellectual Property and Director of the U.S. Patent and Trademark Office. Effective May 30, 2000.

Department of Defense

Public Affairs Specialist to the Principal Deputy Assistant

Secretary of Defense for Public Affairs. Effective May 12, 2000.

Department of Education

Confidential Assistant to the Director, White House Liaison. Effective May 4, 2000.

Confidential Assistant to the Senior Advisor to the Secretary. Effective May 4, 2000.

Confidential Assistant to the Senior Advisor to the Secretary. Effective May 17, 2000.

Department of Energy

Staff Assistant to the Assistant Secretary for International Affairs. Effective May 19, 2000.

Special Assistant to the Principal Deputy Assistant Secretary for Congressional and Intergovernmental Affairs. Effective May 19, 2000.

Associate Director to the Director, Office of Policy. Effective May 23, 2000.

Senior Advisor for Intergovernmental Affairs to the Deputy Assistant Secretary for Intergovernmental and External Affairs. Effective May 25, 2000.

Department of Housing and Urban Development

Special Assistant to the Assistant Secretary for Fair Housing and Equal Opportunity. Effective May 4, 2000.

Special Assistant to the Assistant Secretary for Policy Development and Research. Effective May 4, 2000.

Special Assistant to the Director, Office of Executive Scheduling. Effective May 11, 2000.

Congressional Relations Officer to the Deputy Assistant Secretary for Congressional Relations. Effective May 11, 2000.

Special Assistant to the General Counsel. Effective May 12, 2000.

Special Assistant to the Assistant Secretary for Policy, Development and Research. Effective May 15, 2000.

Director, Office of Executive Scheduling to the Chief of Staff. Effective May 17, 2000.

Special Assistant for Congressional Relations to the Deputy Assistant Secretary for Congressional Relations. Effective May 17, 2000.

Department of the Interior

Director of Scheduling and Advance to the Deputy Chief of Staff. Effective May 8, 2000.

Special Assistant to the Deputy Chief of Staff. Effective May 8, 2000.

Department of Justice

Assistant to the Attorney General. Effective May 11, 2000.

Department of Labor

Legislative Officer to the Assistant Secretary for Congressional and Intergovernmental Affairs. Effective May 17, 2000.

Department of State

Special Assistant to the Assistant Secretary, Bureau of Oceans and International Environmental and Scientific Affairs. Effective May 3, 2000.

Supervisory Public Affairs Specialist to the Deputy Assistant Secretary, Bureau of Public Affairs. Effective May 26, 2000.

Department of Transportation

Scheduling and Advance Assistant to the Director of Scheduling and Advance. Effective May 4, 2000.

Department of the Treasury

Director, Public and Business Liaison to the Deputy Assistant Secretary for Public Liaison. Effective May 30, 2000.

Export-Import Bank of the United States

Administrative Specialist to the President and Chairman. Effective May 4, 2000.

Administrative Specialist to the President and Chairman. Effective May 4, 2000.

Administrative Assistant to the Director. Effective May 10, 2000.

Administrative Specialist to the President and Chairman. Effective May 19, 2000.

General Services Administration

Senior Advisor to the Chief of Staff. Effective May 3, 2000.

National Aeronautics and Space Administration

Legislative Affairs Coordinator to the Associate Administrator for Legislative Affairs. Effective May 30, 2000.

National Credit Union Administration

Confidential Assistant to the Board Member. Effective May 26, 2000.

Office of Management and Budget

Legislative Assistant to the Associate Director, Legislative Affairs, Office of Management and Budget. Effective May 5, 2000.

Small Business Administration

Senior Advisor to the Associate Deputy Administrator for Capital Access. Effective May 4, 2000.

U.S. International Trade Commission

Staff Assistant (Legal) to the Commissioner. Effective May 25, 2000.

Authority: 5 U.S.C. 3301 and 3302; E.O. 10577, 3 CFR 1954—1958 Comp., P.218.

Office of Personnel Management,

Janice R. Lachance,
Director.

[FR Doc. 00-18343 Filed 7-19-00; 8:45 am]

BILLING CODE 6325-01-P